DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Oversight Committee to consider actions affecting New England fisheries in the exclusive economic zone (EEZ). Recommendations from this group will be brought to the full Council for formal consideration and action, if appropriate.

DATES: This meeting will be held on Friday, June 8, 2012 at 9:30 a.m.

ADDRESSES: The meeting will be held at the Clarion Hotel, 1230 Congress Street, Portland, ME 04102; telephone: (207) 774-561; fax: (207) 871-0510.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: There are three major topics for Habitat Committee consideration at this meeting. First, the Committee will recommend updated boundaries for some of the potential adverse effects minimization areas that will be forwarded to a joint process with the Groundfish Committee (these measures are part of Omnibus Essential Fish Habitat Amendment 2). Updated boundary recommendations from the PDT were discussed at the April Committee meeting, but decision-making was deferred. Second, the Committee will consider (1) a draft Memorandum of Understanding with the Mid-Atlantic Fishery Management Council related to coordination of broad-scale coral management efforts and (2) the possibility of splitting coral alternatives out of Omnibus EFH Amendment 2 and into a separate management action. Coral alternatives were approved for analysis by the Council on April 26. Finally, the PDT will provide an update to the Committee about (1) the development of Dedicated Habitat Research Areas and (2) analysis of the coral measures.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 15, 2012.
Tracey L. Thompson,
Acting Director, Office of Sustainable Fisheries, National Marine Fisheries Service.

[FR Doc. 2012-12117 Filed 5-17-12; 8:45 am]

BILLING CODE 3510-22-P